DEPARTMENT OF THE INTERIOR

Fish and Wildlife Service

[FWS-HQ-PRB-2021-N017; FXGO16621010010-FF10G13300]

Notice of Intent To Grant Exclusive License to World Wildlife Fund

AGENCY: Fish and Wildlife Service, Interior.

ACTION: Notice of intent.

SUMMARY: Notice is hereby given that the U.S. Fish and Wildlife Service (FWS) intends to grant to World Wildlife Fund, Inc., whose legal address is 1250 24th St. NW, Washington, DC 20037, an exclusive license to U.S. Patent No. 10,478,276, “PELLET DELIVERY MECHANISM,” filed August 11, 2017, and U.S. Patent No. 10,881,493, “PELLET DELIVERY MECHANISM,” filed November 19, 2019.

DATES: Comments must be received on or before July 9, 2021.

ADDRESSES: Submit comments to Jim Weiner, Assistant Solicitor, Branch of Acquisition and Intellectual Property, U.S. Department of the Interior, via email to JIM.WEINER@sol.doi.gov.

FOR FURTHER INFORMATION CONTACT: Krista Bibb, FWS Patent Liaison, by telephone at 703-358-1914 or email at krista_bibb@fws.gov.

SUPPLEMENTARY INFORMATION: The Federal Government's patent rights in these inventions are assigned to the Government of the United States of America, as represented by the Department of the Interior, Fish and Wildlife Service. It is in the public interest to license this invention to World Wildlife Fund, Inc., who has submitted a satisfactory marketing plan as co-owner of the patents. The prospective exclusive license will be royalty bearing, and will comply with the terms and conditions of 35 U.S.C. 209 and 37 CFR 404.7. The prospective exclusive license may be granted unless, within 15 days after the date of this published notice (see DATES), the U.S. Fish and Wildlife Service receives written evidence and argument which establish that the grant of the license would not be consistent with the requirements of 35 U.S.C. 209 and 37 CFR 404.7 (see ADDRESSES for submitting comments).

Authority: 35 U.S.C. 209, 37 CFR 404.7.

Signing Authority

The Director, U.S. Fish and Wildlife Service, approved this document and authorized the undersigned to sign and submit the document to the Office of the Federal Register for publication electronically as an official document of the U.S. Fish and Wildlife Service. Martha Williams, Principal Deputy Director Exercising the Delegated Authority of the Director, U.S. Fish and Wildlife Service, approved this document on June 21, 2021, for publication.

Anissa Craghead,
Acting Regulations and Policy Chief, Division of Policy, Economics, Risk Management, and Analytics, Joint Administrative Operations, U.S. Fish and Wildlife Service.

[FR Doc. 2021-13294 Filed 6-23-21; 8:45 am]

BILLING CODE 4333-15-P